SECURITIES AND EXCHANGE COMMISSION

Sunshine Act Meeting.

FEDERAL REGISTER CITATION OF PREVIOUS ANNOUNCEMENT: 66 FR 48493, September 20, 2001.

STATUS: Closed meeting.

PLACE: 450 Fifth Street, NW. Washington, DC.

TIME AND DATE OF PREVIOUSLY ANNOUNCED MEETING: September 21, 2001 at 10 a.m.

CHANGE IN THE MEETING: Additional Item.

The following item has been added to the closed meeting scheduled for Friday, September 21, 2001: regulatory matters regarding financial institutions.

Commissioner Hunt, as duty officer, determined that Commission business required the above change and that no earlier notice thereof was possible.

At the times, changes in Commission priorities require alternations in the scheduling of meeting items. For further information and to ascertain what, if any, matters have been added, deleted or postponed, please contact: The Office of the Secretary (202) 942—7070.

Dated: September 20, 2001.
Jonathan G. Katz,
Secretary.

[FR Doc. 01-24051 Filed 9-21-01; 12:14 pm]

BILLING CODE 8010-01-M